DEPARTMENT OF THE INTERIOR

Bureau of Land Management

[UT-080-05-1310-DB]

Notice of Availability of a Draft Environmental Impact Statement for the Chapita Wells-Stagecoach Area Natural Gas Development Project, Uintah County, UT

AGENCY: Bureau of Land Management, Interior.

ACTION: Notice of availability.

SUMMARY: Under the National Environmental Policy Act (NEPA), the Federal Land Policy and Management Act of 1976 (FLPMA) and associated regulations, the Bureau of Land Management (BLM) announces the availability of a Draft Environmental Impact Statement (DEIS) that evaluates, analyzes, and discloses to the public direct, indirect, and cumulative environmental impacts of a proposal to develop natural gas in Uintah County, Utah.

DATES: The DEIS will be available for review for 45 calendar days following the date that the Environmental Protection Agency publishes its NOA in the Federal Register. The BLM can best use comments and resource information submitted within this 45-day review period.

ADDRESSES: Written comments may be mailed directly or delivered to the BLM at: CWSA DEIS, Bureau of Land Management, Vernal Field Office, 170 South 500 East, Vernal, UT 84078. Comments may be submitted by facsimile to the Vernal Field Office at 435-781-4410. At this time BLM is unable to accept electronic comments. A copy of the DEIS has been sent to the affected Federal, State, and local government agencies, Native American Tribes and to interested parties. Copies of the DEIS are available for public inspection at the address listed above and the Bureau of Land Management Utah State Office, 440 West 200 South, Suite 500, Salt Lake City, UT 84101.

FOR FURTHER INFORMATION CONTACT: Stephanie Howard, Project Manager, BLM Vernal Field Office, 170 South 500 East, Vernal, UT 84078. Ms. Howard may also be reached at 435-781-4400.

SUPPLEMENTARY INFORMATION: In response to a proposal submitted by EOG Resources, Inc., (EOG), the BLM published in the October 1, 2004, Federal Register a Notice of Intent (NOI) to prepare an Environmental Impact Statement (EIS).

The Chapita Wells-Stagecoach Area (CWSA) involves approximately 31,870 acres located in Townships 8 through 10 South, Ranges 22 and 23 East, Salt Lake Base Meridian, about 30 miles south of Vernal, Uintah County, Utah. The DEIS analyzes a proposal by EOG to fully develop Federal natural gas resources in the Chapita Wells and the Stagecoach Units, in addition to non-unitized lands in the project area. The Company's proposal includes drilling a total of up to 627 new wells and constructing associated ancillary transportation and transmission facilities within the project area. Of the planned wells, 473 wells would be new locations and 154 wells would be twinned, drilled from existing locations. Of the 31,870 acres within the project area, about 71% is Federal lands administered by the BLM; 21% is owned by the Ute Tribe and/or its allottees and administered by the BIA; 6% is owned by the State of Utah and administered by the Utah State School and Institutional Trust Lands Administration; and 2% is privately owned. The proposed life of the project is 40 years, with the majority of the drilling and development activities to occur within the first 7 years following approval of the BLM's Record of Decision.

As set out in the NOI, EOG proposes to fully develop its existing leases within the Chapita Wells-Stagecoach Area. As of March 2004, the CWSA contained 325 gas-producing wells, about 121 miles of roads and 115 miles of pipeline. An additional 100 wells, 12 miles of access road, and 18.5 miles of pipelines were approved by EA No. UT-080-1999-32, Environmental Assessment, Chapita Wells Unit Infill Development, Uintah County, Utah. Currently no oil wells or produced water disposal wells occur in the CWSA. The new gas wells would be drilled to the Green River, Wasatch, Mesaverde, Mancos “B”, and possibly, other formations. EOG's proposal is based on 40-acre spacing; although some pilot 20-acre locations may be drilled to the Mesaverde Group to help in determining whether development on 40-acre spacing can reasonably provide for optimum recovery. The Proposed Action incorporates standard operating procedures and applicant-committed best management practices currently employed on BLM-administered public lands in the Uintah Basin that mitigate impacts to the environment.

The DEIS describes in detail and analyzes the impacts of EOG's Proposed Action and the No Action Alternative. Seven additional alternatives were considered but eliminated from detailed analysis. The following is a summary of the alternatives:

1. Proposed Action—Up to 627 new gas wells at 40-acre spacing, including up to 66 new locations drilled on 20-acre spacing, would be drilled to the Green River, Wasatch, Mesaverde Group (including the Blackhawk), Mancos Shale, and possibly, other formations. About 99 miles of new roads and 104.5 miles of pipelines would be constructed to support this proposed development. At this time the Proposed Action is the BLM's preferred alternative.

2. No Action Alternative—The proposed natural gas development on Federal lands would not be implemented; however, natural gas development would continue to occur under the authority of the 1985 Book Cliffs RMP, the 1999 Chapita Wells EA, and on non-Federal lands within the project area.

3. Alternatives Considered, but Eliminated from Further Analysis—

a. One pad per well.

b. No new development.

c. Directional drilling.

d. No new development in the White River Corridor and floodplains.

e. White River Protection.

f. Decreased density.

g. Best Management Practices (BMP).

The public is encouraged to comment on any of these alternatives.

The BLM welcomes your comments on the Chapita Wells-Stagecoach Area DEIS. The BLM asks that those submitting comments make them as specific as possible with reference to chapters, page numbers, and paragraphs in the DEIS document. Comments that contain only opinions or preferences will not receive a formal response; however, they will be considered, and included, as part of the BLM decision-making process. The most useful comments will contain new technical or scientific information, identify data gaps in the impact analysis, or will provide technical or scientific rationale for opinions or preferences. It is BLM's practice to make comments, including the names and street addresses of each respondent, available for public review at the BLM office listed above during business hours (7:45 a.m. to 4:30 p.m.), Monday through Friday, except for Federal holidays. Your comments may be published as part of the EIS process. Individual respondents may request confidentiality. If you wish to withhold your name or street address, or both, from public review, or from disclosure under the Freedom of Information Act, you must state this prominently at the beginning of your written comments. Such requests will be honored to the extent allowed by law. BLM will not consider anonymous comments. All submissions from organizations or businesses will be made available for public inspection in their entirety.

William Stringer,
Vernal Field Manager.

[FR Doc. E6-251 Filed 1-11-06; 8:45 am]

BILLING CODE 4310-22-P